DEPARTMENT OF COMMERCE

National Oceanic and Atmospheric Administration

RIN 0648-XC849

New England Fishery Management Council; Statement of Organization, Practices, and Procedures

AGENCY: National Marine Fisheries Service (NMFS), National Oceanic and Atmospheric Administration (NOAA), Commerce.

ACTION: Notice of availability.

SUMMARY: The Assistant Administrator for Fisheries has approved amendments to the New England Fishery Management Council's Statement of Organization, Practices, and Procedures. Copies of the document are available to the public.

ADDRESSES: New England Fishery Management Council, 50 Water Street, Mill 2, Newburyport, Massachusetts 01950.

FOR FURTHER INFORMATION CONTACT: Thomas A. Nies, Executive Director, phone 302-674-2331, fax 302-674-5399.

SUPPLEMENTARY INFORMATION: In accordance with the Magnuson-Stevens Fishery Conservation and Magnuson Act, section 302(f)(6), each regional fishery management council is required to describe its organization and operations in a Statement of Organization, Practices, and Procedures (SOPP). The New England Fishery Management Council has amended its SOPP to be compliant with the 2006 amendments to the Magnuson-Stevens Act. Council function and responsibilities, development of acceptable biological catch, public notice, and other administrative procedures have been updated.

Pursuant to 50 CFR 600.115(b), the New England Fishery Management Council's SOPP, as amended, has been approved by the Assistant Administrator for Fisheries, on behalf of the Secretary of Commerce. The SOPP is available to the public. Copies may be obtained by contacting the Council (see ADDRESSES). An electronic version of the SOPP may be downloaded from http://www.nefmc.org/.

Authority: 16 U.S.C. 1801 et seq.

Dated: April 14, 2015
Samuel D. Rauch III,
Deputy Assistant Administrator for Regulatory Programs, National Marine Fisheries Service.

[FR Doc. 2015-08969 Filed 4-17-15; 8:45 am]

BILLING CODE 3510-22-P